DEPARTMENT OF HEALTH AND HUMAN SERVICES

National Institutes of Health

Loan Repayment Program for Health Disparities Research

ACTION: Notice.

SUMMARY: The National Institutes of Health (NIH) and the National Center on Minority Health and Health Disparities (NCMHD) invite applications for the extramural Loan Repayment Program for Health Disparities Research (HDR-LRP or Program) for fiscal year 2002. Pursuant to the authority granted by section 103 of Public Law 106-525, the Minority Health and Health Disparities Research and Education Act of 2000, that added section 485G of the Public Health Service (PHS) Act (42 U.S.C. 287c-33), the Director of NCMHD, has established a loan repayment program that offers the repayment of educational loan debt to qualified health professionals who agree to conduct research on minority health or other health disparities for a minimum of 2 years.

DATES: Interested persons may request information about the HDR-LRP beginning on July 26, 2002, and August 23, 2002 at 5 p.m. (eastern time) is the closing date and time for the application process.

ADDRESSES: Information regarding the requirements and application procedures for the HDR-LRP may be obtained by calling or writing: National Center on Minority Health and Health Disparities, 6707 Democracy Blvd., Suite 800, MSC 5465, Bethesda, MD 20892-5465, Attention: Kenya McRae, non-toll-free number: (301) 402-1366, e-mail: mcraek@od.nih.gov, Web site: http://www.ncmhd.nih.gov; or the Office of Loan Repayment Program, National Institutes of Health, toll-free-number: (866) 849-4047, e-mail: lrp@nih.gov, Web site: http://www.lrp.nih.gov.

SUPPLEMENTARY INFORMATION:

Definitions

(1) “Debt threshold” is the minimum amount of qualified educational loan debt an applicant must have in order to be eligible for Program benefits. An applicant must have qualified educational loan debt equal to at least 20% of the applicant's institutional base salary or compensation at the time of execution of the LRP contract.

(2) “Health disparities population” as determined by the Director of NCMHD, after consultation with the Director of the Agency for Healthcare Research and Quality, is defined as a population where there is significant disparity in the overall rate of disease incidence, prevalence, morbidity, mortality, or survival rates in the population as compared to the health status of the general population. For purposes of this announcement, the following populations are determined to be health disparities populations: Blacks/African Americans, Hispanics/Latinos, Native Americans, Alaska Natives, Asian Americans, Native Hawaiians, Pacific Islanders and the medically underserved such as individuals from the Appalachian region.

(3) “Health disparities research” is defined as basic, clinical, and behavioral research on a health disparities population (including individual members and communities of such populations) including the causes of such health disparities and methods to prevent, diagnose and treat such disparities.

(4) “Medically underserved” refers to individuals that lack access to primary and specialty care either because they are socioeconomically disadvantaged and may or may not live in areas with high poverty rates or because they reside in rural areas. The term also refers to individuals that reside in geographic areas where the Index of Medical Underservice (IMU) is 62 or less. The Health Resource Services Administration (HRSA) criteria designates a service area with an IMU of 62 or less as a “medically underserved area (MUA)”. The IMU is a weighted score derived from four variables: the ratio of primary medical care physicians per 1,000 population, infant mortality rate, percentage of population below the federal poverty level, and percentage of the population age 65 years or over.

(5) “Minority health conditions” refers to all diseases, disorders, and other conditions (including mental health and substance abuse) that are unique to, more serious, or more prevalent in racial and ethnic minorities, for which the medical risk factors or types of medical interventions may be different, or research involving such populations as subjects or data on such individuals is insufficient.

(6) “Minority health disparities research” is defined as basic, clinical, or behavioral research on minority health conditions, including research to prevent, diagnose, and treat such conditions.

(7) “Qualified educational loan debt” is defined as educational loan debt incurred by health professionals for their undergraduate, graduate and/or health professional school educational expenses incurred at accredited institutions. It consists of the principal, interest, and related expenses of qualified Government and commercial loans obtained by the applicant for: (a) Tuition expenses; (b) other reasonable educational expenses required by the school(s) attended, including fees, books, supplies, educational equipment and materials, and laboratory expenses; and (c) the cost of room and board, and other reasonable living expenses as determined by the Director of NCMHD.

(8) “Repayable debt” means the difference between the applicant's qualified educational loan debt and 50% of the applicant's debt threshold.

Background

The Minority Health and Health Disparities Research and Education Act of 2000 (Public Law 106-525) was enacted on November 22, 2000, amending the Public Health Service (PHS) Act and adding section 485G that authorizes the Director of the National Center on Minority Health and Health Disparities (NCMHD) to establish a program entering into contracts with qualified health professionals. These health professionals are required to conduct minority health or other health disparities research for a minimum of two years, in consideration of the Federal Government repaying a portion of the principal and interest of their educational loans, up to a maximum of $35,000 per year, for each year of service. In addition to establishing the program, the Director, NCMHD, must ensure that not fewer than 50 percent of the contracts are awarded to qualified health professionals that are members of health disparities populations. This program is known as the Loan Repayment Program for Health Disparities Research (HDR-LRP). Selected applicants become participants of the HDR-LRP only upon the execution of a contract by the Director of NCMHD.

Eligibility Requirements

Specific eligibility criteria with regard to participation in the HDR-LRP include the following:

(1) Applicants must be a United States citizen, national, or permanent resident.

(2) Applicants must have a M.D., Ph.D., Pharm.D., D.O., D.D.S., D.M.D., D.P.M., Sc.D., or equivalent doctorate degree from an accredited institution.

(3) Applicants must have qualifying outstanding educational loan debt equal to or in excess of 20 percent of their institutional base salary or compensation. (Example: An applicant with a base salary of $40,000 per year must have a minimum outstanding educational loan debt of $8,000).

(4) Applicants must not be Federal employees.

(5) Applicants must have a research sponsor or mentor with experience in the area of the proposed research and may be enrolled in a training program or appointed under a temporary or permanent employment mechanism for at least two years. (Postdoctoral fellows and physicians completing their residencies are eligible to apply provided they meet all other eligibility requirements).

(6) Applicants must agree to engage in qualified minority health or other health disparities research for the entire period of their contract.

(7) Individuals with existing service obligations to Federal, State, or other entities may not apply for the HDR-LRP, unless and until the existing service obligation is discharged or deferred for the length of Program participation.

(8) Individuals that have a Federal judgment lien against their property arising from a Federal debt from receiving Federal funds may not apply for the HDR-LRP until the judgment has been paid in full or otherwise satisfied.

(9) Individuals will not be excluded from consideration under the HDR-LRP on the basis of age, race, culture, religion, gender, sexual orientation, disability or other non-merit factors.

Application Procedures and Selection Process

Individuals should submit their completed on-line application package to the Director of the Office of Loan Repayment (OLR) who will forward it to the NCMHD, 6707 Democracy Boulevard, Suite 800, MSC 5465, Bethesda, MD 20892-5465. The NCMHD and OLR have provided the current deadlines, sources for assistance, and additional details regarding application procedures in an Applicant Information Bulletin that is located on the NIH LRP home page at http://www.lrp.nih.gov.

The NCMHD will forward all qualified applications to the NCMHD Loan Repayment Review Panel (Panel), chaired by the Deputy Director, NCMHD, for review. The Panel will review and rank the applications based on criteria deemed appropriate, such as the personal statement, recommendations, training plan, research statement, institutional statement and research environment.

Only applications receiving approval from the Panel and having contracts executed by the Director of NCMHD will receive funding, subject to the receipt of an appropriation and/or allocation of funds from the U.S. Congress, the NIH and/or NCMHD.

As specified by statute, the Director, NCMHD, must ensure that at least 50 percent of the awards are made to qualified health professionals who are members of health disparities populations. By placing an emphasis on the recruitment and retention of investigators from health disparities populations, it is believed that not only do the investigators have the potential of impacting the medical processes within their communities, but also, the ability to engage in, as well as promote the development of research programs that reflect an understanding of the variety of issues and problems associated with disparities in health status. This emphasis is consistent with the statute and the goals of both the NCMHD and the NIH to develop a diversified biomedical and behavioral research workforce and to reduce health disparities. Being a member of a health disparities population, however, is not a prerequisite for participation in the HDR-LRP. Any qualified health professional may apply for the program, provided the individual is conducting minority health or other health disparities research and meets all other eligibility requirements.

Participant's Obligation

In exchange for the NCMHD repaying the participants' educational loans, participants must agree to: (1) Engage in minority health or other health disparities research for a minimum of 2 years; (2) make payments to lenders on their own behalf for periods of Leave Without Pay (LWOP); (3) pay monetary damages as required for breach of contract; and (4) satisfy other terms and conditions of the contract and application procedures.

Program's Obligations

Under the HDR-LRP, the NCMHD will make loan repayments to the designated lenders following the completion of each full quarter (3 months) of service by the participants and upon receipt of requested documentation from the participants and their supervisors/mentors. The total repayment amount shall not exceed $35,000 per year for each year of obligated service.

Participants will not automatically qualify for the maximum amount of loan repayment. The amount the NCMHD will consider for repayment during the initial two-year contract shall be calculated as follows: one-fourth the repayable debt per year, up to a maximum of $35,000 per year. (Example: A participant with a base salary of $40,000 per year and an outstanding eligible educational loan debt of $100,000, would have a debt threshold of $8,000 and the repayable debt would be $96,000. Of the $96,000 repayable debt amount, the NCMHD would repay $24,000 a year in loan repayments—a total of $48,000 would be repaid over the two-year contract period.) Following the conclusion of the initial two-year contract, participants may apply for renewal contracts to satisfy any remaining repayable debt. Requests for renewal contracts are considered for approval on a competitive year-to-year basis. Funding of renewal contracts is contingent upon appropriation and/or allocation of funds from the U.S. Congress, the NIH and/or NCMHD.

Payment of Loans

Because the first payment to the lenders on behalf of the participants will not commence until the end of the first full quarter of obligated service, participants should continue to make monthly loan payments until they have been informed that payments have been forwarded to their lenders. This measure enables the participants to maintain their loans in a current payment status.

The HDR-LRP will repay loans in the following order unless the Director of NCMHD, determines that significant savings would result from repaying loans in a different priority order:

(1) Loans issued or guaranteed by the U.S. Department of Health and Human Services;

(2) Loans issued or guaranteed by the U.S. Department of Education;

(3) Loans issued or guaranteed by a State, the District of Columbia, the Commonwealth of Puerto Rico, or a territory or possession of the United States;

(4) Loans issued or guaranteed by an Academic Institution; and

(5) Other qualifying loans.

If the participant has multiple loans in a given category, loans will be prioritized according to the interest rate (highest to the lowest).

Financial obligations that do not qualify for repayment under the HDR-LRP include:

(1) Loans not obtained from a government entity, academic institution, or commercial or other chartered lending institution (such as loans obtained from friends, relatives, or other individuals);

(2) Loans for which contemporaneous documentation is not available;

(3) Loans or portions of loans obtained for educational or living expenses which exceed a reasonable level as determined by the HDR-LRP upon review of the standard school budget or additional contemporaneous documentation for the year in which the loan was made;

(4) Delinquent loans, loans in default, loans not current in their payment schedule, loans already repaid or those for which promissory notes have been signed after the contract has been executed by the Director of NCMHD;

(5) Parent Loan for Undergraduate Students (PLUS);

(6) Loans consolidated with another individual, including a spouse;

(7) Equity loans that include educational loans as part of their balance or any other types of equity loans; and

(8) Loans, financial debts or service obligations that convert to a loan or debt for failure to satisfy the service obligation. Programs that incur service obligations include but are not limited to the following:

• Physicians Shortage Area Scholarship Programs;

• National Research Service Award Program;

• National Health Service Corps Scholarship Program;

• Armed Forces (Army, Navy or Air Force) Health Professions Scholarship Program; and

• Indian Health Service Scholarship Program.

During lapses in loan repayments, due either to administrative complications or a break in service, HDR-LRP participants are wholly responsible for making payments or other arrangements to keep loans in a current payment status and to avoid incurring any additional increase in either principal or interest. Penalties assessed participants as a result of administrative complications may be considered for reimbursement.

Additional Program Information

This program is not subject to the provision of Executive Order 12372, Intergovernmental Review of Federal Programs. Under the requirements of the Paperwork Reduction Act of 1995, OMB has approved the application forms for use by the HDR-LRP under OMB Approval No. 0925-0361 (expires December 31, 2004).

The Catalog of Federal Domestic Assistance number for the HDR-LRP is 93.307.

Dated: July 19, 2002.
Elias A. Zerhouni,
Director, National Institutes of Health.

[FR Doc. 02-18941 Filed 7-25-02; 8:45 am]

BILLING CODE 4140-01-P